DEPARTMENT OF ENERGY

Federal Energy Regulatory Commission

Combined Notice of Filings #1

Take notice that the Commission received the following electric corporate filings:

Docket Numbers: EC16-121-000.

Applicants: RA Generation, LLC, Aurora Generation, LLC, NRG Rockford LLC, NRG Rockford II LLC, NRG Wholesale Generation LP.

Description: Joint Application of RA Generation, LLC, et al. for Approval Under Section 203 of the Federal Power Act and Request for Expedited Action.

Filed Date: 5/18/16.

Accession Number: 20160518-5145.

Comments Due: 5 p.m. ET 6/8/16.

Take notice that the Commission received the following exempt wholesale generator filings:

Docket Numbers: EG16-103-000.

Applicants: Tropico, LLC.

Description: Self-Certification of EWG Status of Tropico, LLC.

Filed Date: 5/19/16.

Accession Number: 20160519-5100.

Comments Due: 5 p.m. ET 6/9/16.

Docket Numbers: EG16-104-000.

Applicants: Nicolis, LLC.

Description: Self-Certification of EWG Status Nicolis, LLC.

Filed Date: 5/19/16.

Accession Number: 20160519-5105.

Comments Due: 5 p.m. ET 6/9/16.

Take notice that the Commission received the following electric rate filings:

Docket Numbers: ER10-2137-015; ER14-2798-007; ER14-2799-007; ER16-750-003; ER12-164-014; ER15-1873-005; ER10-2130-015; ER10-2131-015; ER10-2138-015; ER10-2139-015; ER10-2140-015; ER10-2141-015; ER14-2187-009; ER11-4044-016; ER11-4046-015; ER10-2129-011; ER10-2134-011; ER10-2136-012; ER15-103-005; ER10-2127-014; ER10-2125-015; ER15-1041-005; ER15-2205-005; ER10-2133-015; ER10-2135-011; ER10-2124-014; ER11-3872-016; ER10-2132-014; ER10-2128-014; ER10-2764-014.

Applicants: Beech Ridge Energy LLC, Beech Ridge Energy II LLC, Beech Ridge Energy Storage LLC, Bethel Wind Farm LLC, Bishop Hill Energy III LLC, Buckeye Wind Energy LLC, Forward Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Grays Harbor Energy LLC, Hardee Power Partners Limited, Invenergy Cannon Falls LLC, Invenergy Nelson LLC, Invenergy TN LLC, Judith Gap Energy LLC, Prairie Breeze Wind Energy II LLC, Prairie Breeze Wind Energy III LLC, Sheldon Energy LLC, Spindle Hill Energy LLC, Spring Canyon Energy LLC, Stony Creek Energy LLC, Willow Creek Energy LLC, Wolverine Creek Energy LLC, Vantage Wind Energy LLC.

Description: Notification of Change in Facts of Beech Ridge Energy LLC, et al.

Filed Date: 5/18/16.

Accession Number: 20160518-5165.

Comments Due: 5 p.m. ET 6/8/16.

Docket Numbers: ER13-1967-001.

Applicants: NRG Wholesale Generation LP.

Description: Compliance filing: Informational Filing Regarding Planned Transfer to be effective N/A.

Filed Date: 5/18/16.

Accession Number: 20160518-5138.

Comments Due: 5 p.m. ET 6/8/16.

Docket Numbers: ER16-1732-000.

Applicants: Aurora Generation, LLC.

Description: Aurora Generation, LLC submits Market Power Screens for tariff filing.

Filed Date: 5/18/16.

Accession Number: 20160518-5144.

Comments Due: 5 p.m. ET 6/8/16.

Docket Numbers: ER16-1735-000.

Applicants: California Independent System Operator Corporation.

Description: Section 205(d) Rate Filing: 2016-05-18 Tariff Amendment to Implement Energy Storage Enhancements to be effective 10/1/2016.

Filed Date: 5/18/16.

Accession Number: 20160518-5139.

Comments Due: 5 p.m. ET 6/8/16.

Docket Numbers: ER16-1736-000.

Applicants: NRG Wholesale Generation LP, Aurora Generation, LLC.

Description: Joint Request of NRG Wholesale Generation LP, et al. for Waiver and Request for Expedited Consideration.

Filed Date: 5/18/16.

Accession Number: 20160518-5163.

Comments Due: 5 p.m. ET 6/8/16.

Docket Numbers: ER16-1737-000.

Applicants: PJM Interconnection, L.L.C.

Description: Section 205(d) Rate Filing: Revisions to the OATT, OA and RAA re: Tariff Harmonization—Definitions to be effective 7/18/2016.

Filed Date: 5/19/16.

Accession Number: 20160519-5067.

Comments Due: 5 p.m. ET 6/9/16.

Docket Numbers: ER16-1738-000.

Applicants: Beacon Solar 4, LLC.

Description: Baseline eTariff Filing: Beacon Solar 4, LLC MBR Tariff to be effective 7/18/2016.

Filed Date: 5/19/16.

Accession Number: 20160519-5097.

Comments Due: 5 p.m. ET 6/9/16.

Docket Numbers: ER16-1739-000.

Applicants: Public Service Company of Colorado.

Description: Compliance filing: 20160519_JDA Compliance Filing to be effective 1/1/2016.

Filed Date: 5/19/16.

Accession Number: 20160519-5136.

Comments Due: 5 p.m. ET 6/9/16.

Docket Numbers: ER16-1740-000.

Applicants: Public Service Company of Colorado.

Description: Compliance filing: 20160519_JDA Compliance Filing in ER16-180 and Er16-178 to be effective 4/16/2016.

Filed Date: 5/19/16.

Accession Number: 20160519-5137.

Comments Due: 5 p.m. ET 6/9/16.

Docket Numbers: ER16-1741-000.

Applicants: Arizona Public Service Company.

Description: Section 205(d) Rate Filing: Rate Schedule No. 32 to be effective 7/19/2016.

Filed Date: 5/19/16.

Accession Number: 20160519-5144.

Comments Due: 5 p.m. ET 6/9/16.

Take notice that the Commission received the following PURPA 210(m)(3) filings:

Docket Numbers: QM16-4-000.

Applicants: Hoosier Energy Rural Electric Coop. Inc.

Description: Second Letter Amendment to May 11, 2016 Application of Hoosier Energy Rural Electric Cooperative, Inc. to Terminate QF Mandatory Purchase Obligation.

Filed Date: 5/18/16.

Accession Number: 20160518-5154.

Comments Due: 5 p.m. ET 6/15/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 19, 2016.
Nathaniel J. Davis, Sr.,
Deputy Secretary.

[FR Doc. 2016-12429 Filed 5-25-16; 8:45 am]

BILLING CODE 6717-01-P